FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 000641F.

Name: Wilmoth Fast Forwarding, Inc.

Address: 10004 Grizzly Street, Bakersfield, CA 93311.

Date Revoked: July 23, 2014.

Reason: Failed to maintain a valid bond.

License No.: 1909F.

Name: International Moving Service, Inc.

Address: 2768 Loker Avenue West, Carlsbad, CA 92008.

Date Revoked: July 20, 2014.

Reason: Failed to maintain a valid bond.

License No.: 14970N.

Name: Seascape Lines, Inc.

Address: 15 Forbush Road, Dublin, NH 03444.

Date Surrendered: July 30, 2014.

Reason: Voluntary surrender of license.

License No.: 15193NF.

Name: Delmar Steamship Agency, Inc.

Address: 999 Brickell Bay Drive, Suite 1901, Miami, FL 33131.

Date Surrendered: July 22, 2014.

Reason: Voluntary surrender of license.

License No.: 017213NF.

Name: GP Logistics, Inc.

Address: 2315 Landmeier Road, Elk Grove Village, IL 60007.

Date Surrendered: July 18, 2014.

Reason: Voluntary surrender of license.

License No.: 020384N.

Name: AOL Solutions, Inc. dba AOL Freight Solutions.

Address: 1836 Center Park Drive, Charlotte, NC 28217.

Date Revoked: July 31, 2014.

Reason: Failed to maintain a valid bond.

License No.: 020434N.

Name: Safe Harbor Logistics, Inc.

Address: 5506 Fountain Bridge Lane, Houston, TX 77069.

Date Revoked: July 24, 2014.

Reason: Failed to maintain a valid bond.

License No.: 020879F.

Name: Aarid Enterprise Corporation.

Address: 3 Tremont Drive, Millersville, MD 21108.

Date Surrendered: July 31, 2014.

Reason: Voluntary surrender of license.

License No.: 021430N.

Name: Ceva Freight, LLC dba Ceva Ocean Line dba EGL Ocean Line.

Address: 15350 Vickery Drive, Houston, TX 77032.

Date Surrendered: July 25, 2014.

Reason: Voluntary surrender of license.

License No.: 021615N.

Name: Bimini Shipping LLC.

Address: 3301 NW South River Drive, Miami, FL 33142.

Date Revoked: July 29, 2014.

Reason: Failed to maintain a valid bond.

License No.: 022802N.

Name: Silver Brilliant Logistics, Inc.

Address: 15436 East Valley Boulevard, City of Industry, CA 91746.

Date Revoked: July 20, 2014.

Reason: Failed to maintain a valid bond.

License No.: 022306N.

Name: Worldunimax Logistics, Inc.

Address: 250 West Walnut Street, Compton, CA 90220.

Date Revoked: July 25, 2014.

Reason: Failed to maintain a valid bond.

License No.: 023206NF.

Name: Leading Edge Logistics LLC.

Address: 2098 West Chester Pike, Suite 201, Broomall, PA 19073.

Date Revoked: July 24, 2014.

Reason: Failed to maintain valid bonds.

License No.: 023571N.

Name: Transpacific Line, Inc.

Address: 203-08 28th Avenue, Suite #1F, Bayside, NY 11360.

Date Surrendered: July 24, 2014.

Reason: Voluntary surrender of license.

Sandra L. Kusumoto,
Director, Bureau of Certification and Licensing.

[FR Doc. 2014-19349 Filed 8-14-14; 8:45 am]

BILLING CODE 6730-01-P